COMMISSION ON CIVIL RIGHTS

Notice of Public Meetings of the Ohio Advisory Committee to the U.S. Commission on Civil Rights

AGENCY: U.S. Commission on Civil Rights.

ACTION: Notice of virtual panel briefings.

SUMMARY: Notice is hereby given, pursuant to the provisions of the rules and regulations of the U.S. Commission on Civil Rights (Commission) and the Federal Advisory Committee Act, that the Ohio Advisory Committee (Committee) to the U.S. Commission on Civil Rights will hold panel briefing via Zoom. The purpose of these briefings is to hear testimony on antisemitism in Ohio.

DATES:

• Panel Briefing I: Wednesday, July 9, 2025, from 10:00 a.m. to 12:00 p.m. Eastern Time

• Panel Briefing II: Wednesday, July 16, 2025, from 10:00 a.m. to 12:00 p.m. Eastern Time

ADDRESSES: The meetings will be held via Zoom.

Briefing I (July 9th)

• Registration Link (Audio/Visual): https://www.zoomgov.com/webinar/register/WN_Tg9NMQLrR-aNfA5FmQJMsA

• Join by Phone (Audio Only): (833) 435-1820 USA Toll Free; Webinar ID: 160 426 9653

Briefing II (July 16th)

• Registration Link (Audio/Visual): https://www.zoomgov.com/webinar/register/WN_ny6UOUYQTC-5Y_7V5uv7fA

• Join by Phone (Audio Only): (833) 435-1820 USA Toll Free; Webinar ID: 160 800 3995

FOR FURTHER INFORMATION CONTACT: Melissa Wojnaroski, Designated Federal Officer, at mwojnaroski@usccr.gov or (202) 618-4158.

SUPPLEMENTARY INFORMATION: These Committee briefings are available to the public through the registration links above. Any interested members of the public may attend these briefings. An open comment period will be provided to allow members of the public to make oral comments as time allows. Pursuant to the Federal Advisory Committee Act, public minutes of the briefings will include a list of persons who are present at each briefing. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email svillanueva@usccr.gov at least 10 business days prior to each briefing.

Members of the public are entitled to submit written comments; the comments must be received in the regional office within 30 days following a scheduled meeting. Written comments may be emailed to Sarah Villanueva at svillanueva@usccr.gov. Persons who desire additional information may contact the Regional Programs Coordination Unit at (202) 618-4158.

Records generated from these meetings may be inspected and reproduced at the Regional Programs Coordination Unit Office, as they become available, both before and after each meeting. Records of the meetings will be available via the file sharing website, https://bit.ly/4g3IB4K. Persons interested in the work of this Committee are directed to the Commission's website, http://www.usccr.gov, or may contact the Regional Programs Coordination Unit at svillanueva@usccr.gov.

Agenda

I. Opening Remarks

II. Panelist Presentations

III. Committee Q&A

IV. Public Comment

V. Closing Remarks

VI. Adjournment

Dated: May 20, 2025.
David Mussatt,
Supervisory Chief, Regional Programs Unit.

[FR Doc. 2025-09308 Filed 5-22-25; 8:45 am]

BILLING CODE P